DEPARTMENT OF TRANSPORTATION

Federal Aviation Administration

14 CFR Part 39

[Docket No. FAA-2012-0940; Directorate Identifier 2012-NE-26-AD; Amendment 39-17321; AD 2013-01-07]

RIN 2120-AA64

Airworthiness Directives; Turbomeca S.A. Turboshaft Engines

AGENCY: Federal Aviation Administration (FAA), DOT.

ACTION: Final rule.

SUMMARY: We are adopting a new airworthiness directive (AD) for Turbomeca S.A. Arriel 2D turboshaft engines. This AD was prompted by a low fuel pressure event caused by deterioration and a loss of the low-pressure drive function within the hydro-mechanical metering unit (HMU). This AD requires replacing the HMU at a reduced life. We are issuing this AD to prevent an uncommanded in-flight shutdown of the engine, and possible loss of the helicopter.

DATES: This AD becomes effective March 7, 2013.

ADDRESSES: The Docket Operations office is located at Docket Management Facility, U.S. Department of Transportation, 1200 New Jersey Avenue SE., West Building Ground Floor, Room W12-140, Washington, DC 20590-0001.

FOR FURTHER INFORMATION CONTACT: Frederick Zink, Aerospace Engineer, Engine Certification Office, FAA, Engine & Propeller Directorate, 12 New England Executive Park, Burlington, MA 01803; email: frederick.zink@faa.gov; phone: 781-238-7779; fax: 781-238-7199.

SUPPLEMENTARY INFORMATION:

Discussion

We issued a Notice of Proposed Rulemaking (NPRM) to amend 14 CFR part 39 to include an AD that would apply to the specified products. That NPRM was published in the Federal Register on October 9, 2012 (77 FR 61303). That NPRM proposed to correct an unsafe condition for the specified products. The Mandatory Continuing Airworthiness Information states:

During an Arriel 2D endurance test, the illumination of the low fuel pressure warning light was observed. The investigation of the high pressure/low pressure (HP/LP) pump assembly within the hydro-mechanical metering unit (HMU), removed following this occurrence, revealed a deterioration and a loss of the LP pump drive function.

This condition, if not detected and corrected, could lead to an uncommanded engine in-flight shut down.

Comments

We gave the public the opportunity to participate in developing this AD. We received no comments on the NPRM (77 FR 61303).

Conclusion

We reviewed the available data and determined that air safety and the public interest require adopting the AD (77 FR 61303) as proposed.

Costs of Compliance

Based on the service information, we estimate that this AD will affect about 27 products of U.S. registry. We also estimate that it will take about 0.7 hour per engine to comply with this AD. The average labor rate is $85 per hour. Required parts will cost about $14,400 per engine. Based on these figures, we estimate the cost of this AD on U.S. operators to be $390,407.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (phone: 800-647-5527) is provided in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2013-01-07 Turbomeca S.A.: Amendment 39-17321; Docket No. FAA-2012-0940; Directorate Identifier 2012-NE-26-AD.

(a) Effective Date

This airworthiness directive (AD) becomes effective March 7, 2013.

(b) Affected ADs

None.

(c) Applicability

This AD applies to all Turbomeca S.A. Arriel 2D turboshaft engines.

(d) Reason

This AD was prompted by a low fuel pressure event caused by a deterioration and loss of the low-pressure drive function within the hydro-mechanical metering unit (HMU). We are issuing this AD to prevent an uncommanded in-flight shutdown of the engine, and possible loss of the helicopter.

(e) Actions and Compliance

Unless already done, replace the HMU with an HMU eligible for installation:

(1) Before the HMU exceeds 800 operating hours since new; or

(2) Within 800 operating hours since last replacement of the low-pressure pump spindle wheel assembly, high-pressure pump complete sleeve, bearings/pinions (matched assembly), and sleeve assembly.

(f) Installation Prohibition

After the effective date of this AD, do not install any HMU onto any engine, or install any engine onto any helicopter, unless in compliance with the requirements of paragraph (e) of this AD.

(g) Alternative Methods of Compliance (AMOCs)

The Manager, Engine Certification Office, may approve AMOCs for this AD. Use the procedures found in 14 CFR 39.19 to make your request.

(h) Related Information

(1) For more information about this AD, contact Frederick Zink, Aerospace Engineer, Engine Certification Office, FAA, Engine & Propeller Directorate, 12 New England Executive Park, Burlington, MA 01803; email: frederick.zink@faa.gov; phone: 781-238-7779; fax: 781-238-7199.

(2) Refer to European Aviation Safety Agency AD No. 2012-0141, dated July 31, 2012, and Turbomeca S.A. Alert Mandatory Service Bulletin No. A292 73 2847, Version A, dated May 29, 2012, for related information.

(3) For service information identified in this AD, contact Turbomeca, 40220 Tarnos, France; phone: 33 (0)5 59 74 40 00; telex: 570 042; fax: 33 (0)5 59 74 45 15. You may view this service information at the FAA, Engine & Propeller Directorate, 12 New England Executive Park, Burlington, MA. For information on the availability of this material at the FAA, call 781-238-7125.

(i) Material Incorporated by Reference

None.

Issued in Burlington, Massachusetts, on January 11, 2013.
Colleen M. D'Alessandro,
Assistant Manager, Engine & Propeller Directorate, Aircraft Certification Service.

[FR Doc. 2013-02032 Filed 1-30-13; 8:45 am]

BILLING CODE 4910-13-P